DEPARTMENT OF HEALTH AND HUMAN SERVICES

Centers for Medicare & Medicaid Services

[Document Identifier: CMS-1696]

Agency Information Collection Activities: Submission for OMB Review; Comment Request; Correction

AGENCY: Centers for Medicare & Medicaid Services (CMS), HHS.

ACTION: Notice, correction.

SUMMARY: On June 25, 2024, CMS published a notice in the Federal Register that sought comment on a collection of information concerning CMS-1696 (OMB control number 0938-0950) entitled “Appointment of Representative and Supporting Regulations in 42 CFR 405.910.” The CMS number identifying the aforementioned information collection request in incorrectly listed in the Document Identifier section of the notice. This document corrects the error.

FOR FURTHER INFORMATION CONTACT: William N. Parham, III, (410) 786-4669.

SUPPLEMENTARY INFORMATION:

I. Background

In the June 25, 2024, issue of the Federal Register (89 FR 53107), we published a Paperwork Reduction Act notice requesting a 30-day public comment period for the information collection request identified under CMS-1696, OMB control number 0938-0950, and titled “Appointment of Representative and Supporting Regulations in 42 CFR 405.910.”

II. Explanation of Error

In the June 25, 2024, notice, the CMS number is incorrect. The incorrect language is on located at the bottom of the right column on page 53107, beginning of the Federal Register notice “Document Identifiers: CMS-1694.” All of the other information contained in the June 25, 2024, notice is correct and remains unchanged. The related public comment period remains in effect and ends July 25, 2024.

III. Correction of Error

In FR Doc. 2024-13891 of June 25, 2024 (89 FR 53107), page 53107, the language at the bottom of the right column beginning with “[Document Identifiers: CMS-1694” and ending “and CMS-R-246]”, is corrected to read as follows:

[Document Identifiers: CMS-1696 and CMS-R-246]

William N. Parham, III,
Director, Division of Information Collections and Regulatory Impacts, Office of Strategic Operations and Regulatory Affairs.

[FR Doc. 2024-14772 Filed 7-5-24; 8:45 am]

BILLING CODE 4120-01-P